DEPARTMENT OF THE INTERIOR

National Park Service

[N6743; NPS-WASO-NAGPRA-NPS0041631; PPWOCRADN0-PCU00RP14.R50000]

Notice of Inventory Completion: Tennessee Department of Environment and Conservation Division of Archaeology, Nashville, TN

AGENCY: National Park Service, Interior.

ACTION: Notice.

SUMMARY: In accordance with the Native American Graves Protection and Repatriation Act (NAGPRA), the Tennessee Department of Environment and Conservation, Division of Archaeology (TDEC-DOA) has completed an inventory of human remains and associated funerary objects and has determined that there is a cultural affiliation between the human remains and associated funerary objects and Indian Tribes or Native Hawaiian organizations in this notice.

DATES: Repatriation of the human remains and associated funerary objects in this notice may occur on or after January 21, 2026.

ADDRESSES: Send written requests for repatriation of the human remains and associated funerary objects in this notice to Phillip R. Hodge, Tennessee Department of Environment and Conservation, Division of Archaeology, 1216 Foster Avenue, Cole Building #3, Nashville, TN 37243, email Phil.Hodge@tn.gov.

SUPPLEMENTARY INFORMATION: This notice is published as part of the National Park Service's administrative responsibilities under NAGPRA. The determinations in this notice are the sole responsibility of the TDEC-DOA, and additional information on the determinations in this notice, including the results of consultation, can be found in its inventory or related records. The National Park Service is not responsible for the determinations in this notice.

Abstract of Information Available

Human remains representing, at least, 154 individuals have been identified. The 198 associated funerary objects are 39 artifacts and 159 lots of artifacts described below.

Unknown site, Cheatham County, TN

Human remains representing, at least, one individual. These remains from the collection of the Tennessee State Museum were excavated by a private individual from a “Temple Mound” in Cheatham County and donated in 1993. They were transferred to the Division of Archaeology in 1995. There is no known exposure to hazardous substances or treatments.

Site 40CH8, Cheatham County, TN

Human remains representing, at least, four individuals, and associated funerary objects consisting of one lot of unsorted artifacts. At least two individuals and the lotted associated funerary objects were excavated in March 1926, curated with the Tennessee State Museum, and transferred to the Division of Archaeology in 2017. At least two individuals were collected by Division of Archaeology staff in 1976. No record exists as to the original circumstances of collection. There is no known exposure to hazardous substances or treatments.

Site 40CH19, Cheatham County, TN

Human remains representing, at least, one individual. These remains were donated to the Division of Archaeology by a private consultant in 2010. No information exists as to the circumstances surrounding their collection. There is no known exposure to hazardous substances or treatments.

Unknown site, Dickson County, TN

Human remains representing, at least, one individual. These remains were seized by the Dickson County sheriff department in an estate sale, and transferred to Middle Tennessee State University for examination. They were transferred to TDEC-DOA in 2023. There is no known exposure to hazardous substances or treatments.

Unknown site, Montgomery County, TN

Human remains representing, at least, one individual. These remains were donated to TDEC-DOA by the Clarksville Police Department in 2017. There is no known exposure to hazardous substances or treatments.

Site 40MT4, Montgomery County, TN

Human remains representing, at least, two individuals, and four associated funerary objects consisting of one freshwater shell and three lots of shell and faunal material. These remains were donated to TDEC-DOA by Sewanee archaeology faculty in 2022. There is no known exposure to hazardous substances or treatments.

Site 40MT111, Montgomery County, TN

Human remains representing, at least, one individual. These remains were collected eroding from the riverbank by a private consultant and transferred to TDEC-DOA in July 2010. There is no known exposure to hazardous substances or treatments.

Site 40MT133, Montgomery County, TN

Human remains representing, at least, one individual. These ancestral remains were collected eroding from a riverbank and donated to TDEC-DOA in 2023. There is no known exposure to hazardous substances or treatments.

Site 40MT387, Montgomery County, TN

Human remains representing, at least, four individuals, and 46 associated funerary objects consisting of five shell tempered ceramic vessels and 41 lots of artifacts. This Mississippian period cemetery was excavated by a private consultant in 1988 prior to water plant construction. All other ancestral remains from the site were reburied under state law in 1995. There is no known exposure to hazardous substances or treatments.

Site 40MT1041, Montgomery County, TN

Human remains representing, at least, one individual. These ancestral remains were recovered by TDEC-DOA staff in 2008 after being left on site by vandals. There is no known exposure to hazardous substances or treatments.

Unknown site, Robertson County, TN

Human remains representing, at least, one individual. No information is available regarding the location from which these remains were acquired or their transfer to Division of Archaeology care. There is no known exposure to hazardous substances or treatments.

Site 40RB4, Robertson County, TN

Human remains representing, at least, one individual. These ancestral remains were discovered by construction workers in 1981 and transferred to TDOA in 2004. There is no known exposure to hazardous substances or treatments.

Site 40RB141, Robertson County, TN

Human remains representing, at least, one individual. No information is available regarding the location from which these remains were acquired or their transfer to Division of Archaeology care. There is no known exposure to hazardous substances or treatments.

Unknown sites, Sumner County, TN

Human remains representing, at least, six individuals. Remains of at least two individuals were donated to the Division of Archaeology with no additional information. Remains of at least one individual were donated to the Division of Archaeology in 1981. Remains of at least three individuals from the estate of a private collector were donated to the Division of Archaeology in 2020. There is no known exposure to hazardous substances or treatments.

Site 40SU3, Sumner County, TN

Human remains representing, at least, one individual. These ancestral remains were collected by a private individual and donated to TDEC-DOA in 2017. There is no known exposure to hazardous substances or treatments.

Site 40SU14, Sumner County, TN

Human remains representing, at least, one individual and one lot of unsorted artifacts. There is no information available regarding the origin of these materials. There is no known exposure to hazardous substances or treatments.

Site 40SU15, Sumner County, TN

Human remains representing, at least, three individuals, and five associated funerary objects consisting of three ceramic vessels, one stone bead, and one lot of associated funerary objects. These and other ancestral remains from site 40SU15 were excavated in 1994 by a private consultant prior to residential development. All other ancestral remains and AFOs were reburied on site according to state law in June 1995. There is no known exposure to hazardous substances or treatments.

Site 40SU20, Sumner County, TN

Human remains representing, at least, 106 individuals (one missing at inventory), and 142 associated funerary objects (all missing at inventory) consisting of 11 Madison triangular arrow points, two lithic bifaces, two freshwater bivalves, two crinoid fossil fragments, one stemmed projectile point, one elk tibia tarsal, one bone needle fragment, one shell-tempered ceramic jar, one welk shell effigy ceramic vessel, one Mississippi Plain lobed ceramic jar, one Mississippi Plain ceramic vessel, one shell-tempered ceramic sherd, one rodent mandible, one fragmentary worked deer metapodial, one turtle carapace, one snake vertebra, and 113 lots of associated funerary objects (45 missing at inventory). TDEC-DOA staff conducted excavation of a Mississippian period burial mound at Moss Wright Park in 1976 as a salvage project prior to construction of park facilities. There is no known exposure to hazardous substances or treatments.

Site 40SU46, Sumner County, TN

Human remains representing, at least, one individual. These ancestral remains were recovered by TDEC-DOA staff in 1977 during a site survey. There is no known exposure to hazardous substances or treatments.

Site 40SU71, Sumner County, TN

Human remains representing, at least, eight individuals. These ancestral remains were donated to TDEC-DOA in the 1970s and 1980s. There is no known exposure to hazardous substances or treatments.

Site 40SU75, Sumner County, TN

Human remains representing, at least, five individuals. These ancestral remains were salvaged by TDEC-DOA staff in 1982 after being disturbed by construction activity. There is no known exposure to hazardous substances or treatments.

Site 40SU204, Sumner County, TN

Human remains representing, at least, three individuals. These remains were excavated by a private individual and donated to the TDOA in 2005. There is no known exposure to hazardous substances or treatments.

Cultural Affiliation

Based on the information available and the results of consultation, cultural affiliation is reasonably identified by the geographical location or acquisition history of the human remains and associated funerary objects described in this notice.

Determinations

The TDEC-DOA has determined that:

• The human remains described in this notice represent the physical remains of 154 individuals of Native American ancestry.

• The 198 objects described in this notice are reasonably believed to have been placed intentionally with or near individual human remains at the time of death or later as part of the death rite or ceremony.

• There is a connection between the human remains and associated funerary objects described in this notice and the Absentee-Shawnee Tribe of Indians of Oklahoma; Cherokee Nation; Eastern Band of Cherokee Indians; Eastern Shawnee Tribe of Oklahoma; Shawnee Tribe; The Muscogee (Creek) Nation; and the United Keetoowah Band of Cherokee Indians in Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after January 21, 2026. If competing requests for repatriation are received, the TDEC-DOA must determine the most appropriate requestor prior to repatriation. Requests for joint repatriation of the human remains and associated funerary objects are considered a single request and not competing requests. The TDEC-DOA is responsible for sending a copy of this notice to the Indian Tribes and Native Hawaiian organizations identified in this notice.

Authority: Native American Graves Protection and Repatriation Act, 25 U.S.C. 3003, and the implementing regulations, 43 CFR 10.10.

Dated: December 11, 2025.
Melanie O'Brien,
Manager, National NAGPRA Program.

[FR Doc. 2025-23542 Filed 12-19-25; 8:45 am]

BILLING CODE 4312-52-P